DEPARTMENT OF HEALTH AND HUMAN SERVICES

Centers for Disease Control and Prevention

[60Day-11-11KS]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Daniel Holcomb, CDC Reports Clearance Officer, 1600 Clifton Road, MS D-74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Community-Based Surveillance of Supports for Healthy Eating and Active Living—New—National Center for Chronic Disease Prevention and Health Promotion (NCCDPHP), Centers for Disease Control and Prevention (CDC).

Background and Brief Description

There is growing consensus among experts that the environment plays a critical role in promoting or discouraging healthy choices and behaviors. For example, consumption of a healthful diet may be constrained by lack of access to fresh foods, and physical activity, particularly as it relates to active forms of transportation, such as walking and bicycling, may be limited by poor street design or concerns about safety. Policies implemented by municipalities can change local environments to support residents' decisions to consume healthful diets and be physically active.

CDC has identified 24 strategies that local communities can implement to encourage healthy eating and active living, as well as indicators for monitoring community-level progress in implementing these strategies. However, at this time, there is no systematic national information collection about community-level policies related to healthy eating and active living, or how these policies are changing over time. Although some public health surveillance systems measure health and behavioral factors at the individual level, these systems are insufficient to address broader contextual factors, such as community-level supports and policies related to nutrition and physical activity.

To address this gap in information, CDC proposes to conduct a pilot study to examine the feasibility of establishing a national community-level surveillance system on policy supports for healthful eating and active living. The pilot study will be conducted in two states with a sample of 400 communities, 200 in each state. Respondents will be local governments from a representative sample of municipalities in each state. The sample frame will be generated from the U.S. Census of Governments.

The proposed pilot study is designed to address three key methodological objectives. The first objective is to test the feasibility of the proposed sampling frame and to answer sample design issues related to determining sampling criteria for inclusion, as well as the development of weights and estimates.

The second objective is to identify and critically evaluate whether respondents in diverse municipalities of various sizes and organizational structures are able to answer a self-administered survey questionnaire. The survey questionnaire includes 42 items on the following topics: Community-wide planning efforts for healthy eating and active living, the built environment and policies that support physical activity, and policies and practices that support access to healthy food and healthy eating. The estimated burden per response is one hour. Issues to be addressed include critical assessment of the strengths and weaknesses of methods for identifying the best respondents for completing the survey questionnaire; conducting a limited process evaluation that identifies the barriers and challenges respondents may incur in providing reasonable and current data for the questionnaire; and arriving at a data collection instrument with the lowest possible threshold for respondent burden.

The third objective is to identify and critically evaluate different methods of study recruitment and non-response follow-up. A split-sample approach will be used to assign each target respondent to one of two groups: A low-intensity recruitment group or a moderate-intensity recruitment group. All target respondents in the study sample will receive e-mail reminders to encourage participation in the survey. Target respondents in the moderate-intensity recruitment group will also receive up to three telephone contacts to address questions. These follow-up contacts will serve as additional reminders. The estimated burden per telephone contact is five minutes.

Results of the methodological component of the feasibility study will be used to assess the feasibility of establishing a national surveillance system and the best methods for encouraging a high response rate in a representative sample of communities.

The overall goal is to establish a surveillance system that will be useful to local, state, and federal public health programs that promote healthful eating and physical activity. Information to be collected through surveillance will help these groups identify areas for community-level interventions, track the progress of communities in changing policy and environmental supports, and evaluate interventions that address the obesity epidemic through changing diet and physical activity.

Target respondents will be city/town planners and managers, or individuals with similar responsibilities. The majority of survey responses will be collected using a secure, web-based survey data collection system. A paper version of the survey will also be available. OMB approval is requested for one year. Participation is voluntary and there are no costs to respondents other than their time.

Estimated Annualized Burden Hours
Type of respondent | Form name | Number of respondents | Number of responses per respondent | Average burden per response (in hr) | Total burden (in hr)
City/Town Manager-Planner | Survey Questionnaire | 400 | 1 | 1 | 400
| Telephone Follow-up for Non-Responders | 200 | 3 | 5/60 | 50
Total |  |  |  |  | 450

Dated: September 29, 2011.
Daniel Holcomb,
Reports Clearance Officer, Centers for Disease Control and Prevention.

[FR Doc. 2011-25753 Filed 10-5-11; 8:45 am]

BILLING CODE 4163-18-P